DEPARTMENT OF LABOR

Employment Standards Administration

Proposed Collection; Comment Request

Correction

In notice document 05-8844 beginning on page 23230 in the issue of Wednesday, May 4, 2005, make the following correction:

On page 23231, in the first column, under DATES, in the fourth line “[insert date 60 days from the date of publication]” should read “July 5, 2005”.

[FR Doc. C5-8844 Filed 5-12-05; 8:45 am]

BILLING CODE 1505-01-D

OCCUPATIONAL SAFETY AND HEALTH REVIEW COMMISSION

29 CFR Part 2200

Revisions to Procedural Rules Governing Practice Before the Occupational Safety and Health Review Commission

Correction

In rule document 05-8744 beginning on page 22785 in the issue of Tuesday, May 3, 2005, make the following corrections:

§2200.7 [Corrected]ÿ7E

1. On page 22787, in ÿ7E§ÿ7E2200.7, in the second column, in the first line of paragraph (c), “(C)” should read “(c)”.

2. On the same page, in the same section, in the same paragraph, in the 18th line, “se3rved” should read “served”.

3. On the same page, in the same section, in paragraph (g), in the second line, “vent” should read “event”.

4. On the same page, in the same section, in the third column, in the 14th line of the first full paragraph, “rules” should read “Rules”.

5. On the same page, in the same section, in the same column, in the 18th line of the first full paragraph, “Health, Review” should read “Health Review”.

§2200.8 [Corrected]

6. On page 22788, in ÿ7E§ÿ7E2200.8, in the first column, in paragraph (g)(2), in the second line, “with the these” should read “with these”.

7. On the same page, in the same section, in paragraph (g)(6), in the fourth line,

“(i) The transmittal of a document.

(ii) The inclusion of an attachment:” should read:

“(i) The transmittal of a document;

(ii) The inclusion of an attachment;”.

§2200.32 [Corrected]

8. On page 22788, in ÿ7E§ÿ7E2200.32, in the third column, in the 15th line from the top, “that is” should read “that it is”.

9. On the same page, in the same section, in the same column, in the 21st line from the top, “part” should read “party”.

§2200.51 [Corrected]

10. On page 22788, in ÿ7E§ÿ7E2200.51, in the third column, the section heading §ÿ7E2200.51 Prehearing conferences and others should read §2200.51 Prehearing conferences and orders.

§2200.52 [Corrected]

11. On page 22789, in ÿ7E§ÿ7E2200.52, in the third column, in paragraph (h)(1)(ii), in the second line, “classed” should read “called”.

12. On the same page, in the same section, in the same column, in paragraph (j), in the first line, “request” should read “requests”.

13. On the same page, in the same section, in the same column, in the same paragraph, in the third line, “request” should read “requests”.

14. On page 22790, in the same section, in the first column, in paragraph (m), in the third line, “fro” should read “for”.

§2200.54 [Corrected]

15. On page 22790, in ÿ7E§ÿ7E2200.54(b), in the first column, in the 13th line, “stating the” should read “stating in”.

§2200.120 [Corrected]

16. On page 22791, in §ÿ7E2200.120(b)(2), in the first column,ÿ7E in the third line, “Nothwithstanding” should read “Notwithstanding”.

17. On the same page, in the same section, in the second column, in paragraph (c)(2), in the fifth line, “my” should read “may”.

18. On the same page, in the same section, in the same column, in paragraph (d)(2), in the 16th line, “other wise” should read “otherwise”.

[FR Doc. C5-8744 Filed 5-12-05; 8:45 am]

BILLING CODE 1505-01-D